DEPARTMENT OF COMMERCE

Submission for OMB Review; Comment Request; Correction

Agency: U.S. Census Bureau.

Title: Current Population Survey, Annual Social and Economic Survey.

OMB Control Number: 0607-0354.

In the Federal Register of September 11, 2015, Vol. 80, No. 176, Page 54766, the Legal Authority contained incorrect information. The correct information is:

Legal Authority: Title 13, United States Code, Sections 8(b), 141, 182; and Title 29, United States Code, Sections 1-9.

Dated: September 11, 2015.
Glenna Mickelson,
Management Analyst, Office of the Chief Information Officer.

[FR Doc. 2015-23300 Filed 9-16-15; 8:45 am]

BILLING CODE 3510-07-P